DEPARTMENT OF ENERGY

Federal Energy Regulatory Commission

[Docket No. CP93-253-004]

El Paso Natural Gas Company; Notice of Application

August 28, 2001.

Take notice that on August 17, 2001, El Paso Natural Gas Company (El Paso) filed in Docket No. CP93-253-004 an application, pursuant to Section 3 of the Natural Gas Act (NGA), Sections 153, et seq., of the Commission's Regulations, to amend its Section 3 authorization and the Presidential Permit solely with respect to an increase in the maximum daily export capacity, all as more fully described below. This filing may be viewed on the web at http://www.ferc.gov using the “RIMS” link, select “Docket #” and follow the instructions (call (202) 208-2222 for assistance).

Specifically, El Paso is requesting an amendment to its existing Section 3 authorization and Presidential Permit granted by orders issued November 29, 1993, and June 11, 1997 in Docket Nos. CP93-253-000, et al., solely to increase the maximum daily export capacity from 208,000 Mcf/d to 308,000 Mcf/d on the Samalayuca Lateral pipeline. Therefore, this application to amend does not affect any other aspect of the Samalayuca Lateral Expansion Project, as filed and approved. El Paso states that subsequent to the commencement of transportation service on the Samalayuca Lateral, various parties in Mexico have expressed interest in the transportation by El Paso of additional volumes of natural gas, utilizing the Samalayuca Lateral facilities and the delivery of such volumes to the International Boundary.

El Paso anticipates that the Comision Federal de Electricidad (CFE) will require an additional 60,000 Mcf/d of natural gas for its new Chihuahua II power plant to be located near Chihuahua, Mexico in the city of El Encino scheduled for commercial operation in October 2001. CFE has advised El Paso that another 40,000 Mcf/d of natural gas will be required for fuel at a new turbine generator to be installed at the El Encino site by February 2002. Furthermore, El Paso understands that CFE has issued a Request for Proposal for the new Chihuahua III power plant to be located near the city of Juarez at the original Samalayuca plant site, which will require an additional 50,000 Mcf/d of transportation capacity by May 2003.

El Paso proposes to provide the necessary transportation and delivery service for these additional volumes by operating the existing 24″ O.D. Samalayuca Lateral pipeline at a higher pressure; the installation of one additional meter run at the existing meter station located in the plant yard of the Hueco Compressor Station; and the installation of additional piping within the plant yard of the Hueco Compressor Station that would permit El Paso to receive gas volumes into the Samalayuca Lateral from the discharge side of the Hueco Compressor Station. Transportation of gas to the Hueco Compressor Station would be accomplished through existing transportation contracts or through capacity obtained through the capacity release program. El Paso points out that it is not proposing to award any capacity on its mainline system pursuant to this amendment and the facilities will be installed under El Paso's part 157, Subpart F Blanket Certificate.

Any questions regarding the application should be directed to Robert T. Tomlinson, Director, Regulatory Affairs Department, El Paso Natural Gas Company, Post Office Box 1087, Colorado Springs, Colorado 80944, or at (719) 520-3788.

There are two to become involved in the Commission's review of this project. First, any person wishing to obtain legal status by becoming a party to the proceedings for this project should, on or before September 18, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Interventions, comments, and protests may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-22094 Filed 8-31-01; 8:45 am]

BILLING CODE 6717-01-P